DEPARTMENT OF AGRICULTURE

Forest Service

Eastern Washington Cascades Provincial Advisory Committee and Yakima Provincial Advisory Committee

AGENCY: Forest Service, USDA.

ACTION: Notice of meeting.

SUMMARY: The Eastern Washington Cascades Provincial Advisory Committee and Yakima Provincial Advisory Committee will meet on Tuesday, March 7, 2000, at the Wenatchee National Forest headquarters main conference room, 215 Melody Lane, Wenatchee, Washington. The meeting will begin at 9:00 a.m. and continue until 3:30 p.m. Much of the agenda for this meeting will be devoted to helping members decide where to focus committee efforts in the coming year, and to agree on ways to work together more effectively. There will also be updates on new developments in the implementation of the Northwest Forest plan. All Eastern Washington Cascades and Yakima Province Advisory Committee meetings are open to the public. Interested citizens are welcome to attend.

FOR FURTHER INFORMATION CONTACT: Direct questions regarding this meeting to Paul Hart, Designated Federal Official, USDA, Wenatchee National Forest, 215 Melody Lane, Wenatchee, Washington, 98801, 509-662-4335.

Dated: February 18, 2000.
Sonny J. O'Neal,
Forest Supervisor, Wenatchee National Forest.

[FR Doc. 00-4431 Filed 2-24-00; 8:45 am]

BILLING CODE 3410-11-M